DEPARTMENT OF JUSTICE

Notice of Lodging of Proposed Consent Decree Under the Clean Air Act

On January 29, 2019, the Department of Justice lodged a proposed consent decree with the United States District Court for the District of Massachusetts in the lawsuit entitled United States v. wTe Recycling, Inc., Civil Action Number 3:19-cv-30016. The proposed consent decree resolves the claims set forth in the Complaint filed in this matter asserted by the United States against Defendant wTe Recycling, Inc. (“wTe”), pursuant to the Clean Air Act, 42 U.S.C. 7401-7671q, with respect to wTe's metals recycling facility located at 75 Southern Avenue in Greenfield, Massachusetts (“Facility”). The claims alleged in the complaint pertain to a change in operations at the Facility in 1991 that caused continuing excess emissions of volatile organic compounds above applicable emissions thresholds and wTe's failure to implement appropriate control technology and obtain required regulatory approvals, as well as violations relating to the operation of the recycling engines at the Facility. The proposed consent decree would require wTe to pay a civil penalty of $277,000 as well as to begin a scheduled phase-out of its acceptance of the materials causing the excess emissions culminating in total cessation by mid-2021 and to mitigate the excess emissions by purchasing and retiring discrete emission reduction credits.

The publication of this notice opens a period for public comment on the proposed consent decree and proposed settlement agreement. Comments should be addressed to the Assistant Attorney General, Environment and Natural Resources Division, and should refer to United States v. wTe Recycling, Inc., Civil Action Number 3:19-cv-30016, D.J. Ref. No. 90-5-2-1-11810. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree and proposed settlement agreement may be examined and downloaded at this Justice Department website: https://www.justice.gov/enrd/consent-decrees. We will provide a paper copy of these documents upon written request and payment of reproduction costs. Please mail your request and payment to: Consent Decree Library, U.S. DOJ—ENRD, P.O. Box 7611, Washington, DC 20044-7611.

Please enclose a check or money order for $7.75 (25 cents per page reproduction cost) payable to the United States Treasury.

Robert Maher,
Assistant Section Chief, Environmental Enforcement Section, Environment and Natural Resources Division.

[FR Doc. 2019-01021 Filed 2-4-19; 8:45 am]

BILLING CODE 4410-15-P